DEPARTMENT OF ENERGY

Federal Energy Regulatory Commission

[Project No. 12796-000, Project No. 12797-000, Project No. 12801-000]

City of Wadsworth, OH, Rathgar Development Associates, LLC, Kentucky Municipal Power Agency; Notice of Competing Applications Accepted for Filing and Soliciting Comments, Motions To Intervene, and Protests

May 30, 2007.

Take notice that the following hydroelectric applications have been filed with the Commission and are available for public inspection:

a. Type of Applications: Preliminary Permit (Competing).

b. Applicants, Project Numbers, and Dates Filed:

City of Wadsworth, Ohio, filed the application for Project No. 12796-000 on April 24, 2007.

Rathgar Development Associates, LLC filed the application for Project No.12797-000 on April 26, 2007.

Kentucky Municipal Power Agency filed the application for Project No.12801-000 on May 18, 2007.

c. Name of the project is Robert C. Byrd Dam Project. The project would be located on the Ohio River in Mason County, West Virginia, and Gallia County, Ohio. It would use the U.S. Army Corps of Engineers' existing Robert C. Byrd Dam.

d. Filed Pursuant to: Federal Power Act, 16 U.S.C. 791a-825r.

e. Applicants Contacts: For the City of Wadsworth, Ohio: Mr. Phillip E. Meier, Chief Information Officer, American Municipal Power—Ohio, 2600 Airport Road, Columbus, OH 43219, (614) 416-8135. Rathgar Development Associates, LLC: Mr. Paul V. Nolan, Esquire, 5515 North 17th Street, Arlington, VA 22205, (703) 534-5509. For the Kentucky Municipal Power Agency: Francis E. Francis, Esquire, Spiegel and McDiarmid, 1333 New Hampshire Avenue, Washington, DC 20036, (202) 879-4000.

f. FERC Contact: Robert Bell, (202) 502-6062.

g. Deadline for filing comments, protests, and motions to intervene: 60 days from the issuance date of this notice.

All documents (original and eight copies) should be filed with: Secretary, Federal Energy Regulatory Commission, 888 First Street, NE., Washington, DC 20426. Comments, protests, and interventions may be filed electronically via the Internet in lieu of paper; see 18 CFR 385.2001(a)(1)(iii) and the instructions on the Commission's Web site under the “e-Filing” link. The Commission strongly encourages electronic filings. Please include the project number (P-12796-000, P-12797-000, or P-12801-000) on any comments or motions filed.

The Commission's Rules of Practice and Procedure require all intervenors filing documents with the Commission to serve a copy of that document on each person in the official service list for the project. Further, if an intervenor files comments or documents with the Commission relating to the merits of an issue that may affect the responsibilities of a particular resource agency, they must also serve a copy of the document on that resource agency.

h. Description of Projects: The project proposed by the City of Wadsworth, Ohio, would utilize the U.S. Army Corps of Engineers' existing Robert C. Byrd Dam and consist of: (1) A proposed intake structure, (2) a proposed powerhouse containing two generating units with a total installed capacity of 48 megawatts, (3) a proposed 138 kV transmission line, and (4) appurtenant facilities. The City of Wadsworth's, project would have an average annual generation of 247 gigawatt-hours.

The project proposed by Rathgar Development Associates, LLC would utilize the U.S. Army Corps of Engineers' Robert C. Byrd Dam and consist of: (1) A proposed intake structure, (2) a proposed powerhouse containing eight generating units with a total installed capacity of 46 megawatts, (4) a proposed 8,200-foot-long, 138-kV transmission line, and (5) appurtenant facilities. Rathgar Development Associates, LLC's project would have an average annual generation of 220 gigawatt-hours.

The project proposed by the Kentucky Municipal Power Agency would utilize the U.S. Army Corps of Engineers' Robert C. Byrd Dam and consist of: (1) A proposed intake structure, (2) a proposed powerhouse containing two generating units with a total installed capacity of 44 megawatts, (3) a proposed 1.7-mile-long, 138 kV transmission line, and (4) appurtenant facilities. The Kentucky Municipal Power Agency's project would have an average annual generation of 212 gigawatt-hours.

i. The filings are available for review at the Commission in the Public Reference Room or may be viewed on the Commission's Web site at http://www.ferc.gov using the “eLibrary” link. Enter the docket number excluding the last three digits in the docket number field to access the document. For assistance, call toll-free 1-866-208-3676 or e-mail FERCONLINESUPPORT@FERC.GOV. For TTY, call (202) 502-8659. A copy is also available for inspection and reproduction at the address in item e above.

j. Competing Preliminary Permit: Anyone desiring to file a competing application for preliminary permit for a proposed project must submit the competing application itself, or a notice of intent to file such an application, to the Commission on or before the specified comment date for the particular application (see 18 CFR 4.36). Submission of a timely notice of intent allows an interested person to file the competing preliminary permit application no later than 30 days after the specified comment date for the particular application. A competing preliminary permit application must conform with 18 CFR 4.30(b) and 4.36.

k. Competing Development Application: Any qualified development applicant desiring to file a competing development application must submit to the Commission, on or before a specified comment date for the particular application, either a competing development application or a notice of intent to file such an application. Submission of a timely notice of intent to file a development application allows an interested person to file the competing application no later than 120 days after the specified comment date for the particular application. A competing license application must conform with 18 CFR 4.30(b) and 4.36.

l. Notice of Intent: A notice of intent must specify the exact name, business address, and telephone number of the prospective applicant, and must include an unequivocal statement of intent to submit, if such an application may be filed, either a preliminary permit application or a development application (specify which type of application). A notice of intent must be served on the applicant(s) named in this public notice.

m. Proposed Scope of Studies Under Permit: A preliminary permit, if issued, does not authorize construction. The term of the proposed preliminary permit would be 36 months. The work proposed under the preliminary permit would include economic analysis, preparation of preliminary engineering plans, and a study of environmental impacts. Based on the results of these studies, the Applicant would decide whether to proceed with the preparation of a development application to construct and operate the project.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “NOTICE OF INTENT TO FILE COMPETING APPLICATION”, “COMPETING APPLICATION”, “PROTEST”, and “MOTION TO INTERVENE”, as applicable, and the Project Number of the particular application to which the filing refers. Any of the above-named documents must be filed by providing the original and the number of copies provided by the Commission's regulations to: The Secretary, Federal Energy Regulatory Commission, 888 First Street, NE., Washington, DC 20426. An additional copy must be sent to Director, Division of Hydropower Administration and Compliance, Federal Energy Regulatory Commission, at the above-mentioned address. A copy of any notice of intent, competing application or motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E7-10808 Filed 6-5-07; 8:45 am]

BILLING CODE 6717-01-P